DEPARTMENT OF EDUCATION

Disability and Rehabilitation Research Projects (DRRP) Program

AGENCY: National Institute on Disability and Rehabilitation Research (NIDRR), Office of Special Education and Rehabilitative Services, Department of Education.

ACTION: Notice of final priority.

SUMMARY: The Assistant Secretary for Special Education and Rehabilitative Services announces a final priority on Disability in Rural Communities under the Rehabilitation Research and Training Centers (RRTC) Program for the National Institute on Disability and Rehabilitation Research (NIDRR). The Assistant Secretary may use this priority for competitions in FY 2002 and in later years. We take this action to focus research attention on an identified national need. We intend this priority to improve the rehabilitation services and outcomes for individuals with disabilities.

EFFECTIVE DATE: This priority is effective August 28, 2002.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Description of the Rehabilitation Research and Training Centers (RRTC) Program

The RRTCs conduct coordinated and integrated advanced programs of research targeted toward the production of new knowledge, to improve rehabilitation methodology and service delivery systems, alleviate or stabilize disabling conditions, or promote maximum social and economic independence for persons with disabilities. RRTCs operate in collaboration with institutions of higher education or providers of rehabilitation or other appropriate services. Additional information on the RRTC program can be found at: http://www.ed.gov/offices/OSERS/NIDRR/Programs/res_program.html#RRTC

General Requirements

The RRTC must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties;

• Serve as a center for national excellence in rehabilitation research for individuals with disabilities, their representatives, providers, and other interested parties.

This priority reflects issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

We published a notice of proposed priority (NPP) for the Disability in Rural Communities in the Federal Register on May 6, 2002 (67 FR 30530). Except for minor revisions there are no differences between the notice of proposed priority (NFP) and this notice of final priority (NFP).

Analysis of Comments and Changes

In response to our invitation in the NPP, six parties submitted comments on the proposed priority. An analysis of the comments and of any changes in the priority since publication of the NPP is published as an appendix at the end of this notice.

Generally, we do not address technical and other minor changes—and suggested changes the law does not authorize us to make under the applicable statutory authority.

The background for the priority was published in the NPP.

Note: This notice does not solicit applications. In any year in which we choose to use this priority, we invite applications through a notice in the Federal Register.

When inviting applications we designate the priority as absolute, competitive preference, or invitational. The effect of each type of priority follows:

Absolute Priority

Under an absolute priority, we consider only applications that meet the priority (34 CFR 75.105(c)(3)).

Competitive Preference Priority

Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational Priority

Under an invitational priority, we are particularly interested in applications that meet the invitational priority. However, we do not give an application that meets the priority a competitive or absolute preference over other applications (34 CFR 75.105(c)(1)).

Priority

This priority supports one Rehabilitation Research and Training Center on Disability in Rural Communities. The purpose of the priority is to generate new knowledge, through research and development activities, that improves the effectiveness of rehabilitation services. The RRTC project must propose research and development activities that are focused on each of the following areas of inquiry: (1) Rural Employment, and Community and Economic Development Policy; (2) Rural Health and Disability; and (3) Rural Community Transportation.

(1) Rural Employment, and Community and Economic Development Policy:

(a) Identify economic and community development policies and evaluate their impact on the employment status of individuals with disabilities living in rural areas, public and private service delivery systems, and service providers;

(b) Investigate the effectiveness of policies and strategies for addressing existing and emerging problems for individuals with disabilities in rural communities.

(c) Identify and evaluate employment policies and employment strategies, including those used in State vocational rehabilitation systems, and investigate the impact on employment outcomes for individuals with disabilities.

(2) Rural Health and Disability:

(a) Identify and investigate the needs of healthcare providers and health care needs of individuals with disabilities in rural communities and factors contributing to secondary conditions.

(b) Investigate the impact of inadequate health promotion, wellness, and prevention activities on the health status and disability outcomes for individuals with disabilities, including secondary disabling conditions.

(c) Develop and evaluate health promotion intervention strategies or identify and evaluate effective health promotion strategies for improving health outcomes for individuals with disabilities in rural communities, including an emphasis on prevention of secondary conditions. Investigate the impact of inadequate wellness and health promotion on healthcare service systems in rural communities.

(d) Develop and test training materials for healthcare providers and consumers to enhance knowledge of disability, secondary conditions, and effective wellness and health promotion intervention strategies.

(3) Rural Community Transportation:

(a) Identify or develop and test new transportation ideas and investigate their effectiveness to increase access for individuals with disabilities, and assess whether they are cost effective.

(b) Investigate the impact of alternate means of transportation on disability outcomes, especially employment and health outcomes, and

(c) Identify and investigate the impact of transportation policies, programs, and resource allocations on access and community integration for individuals with disabilities;

In carrying out the purposes of the priority, the RRTC must:

• Disseminate information about disability issues in rural communities;

• Use advances in telecommunications and web-based technologies, where appropriate, to ensure broad access to research results and their practical application; and

• Involve individuals with disabilities, their family members, and consumers, as appropriate, in all stages of the research process and related activities.

Intergovernmental Review

This program is not subject to Executive Order 12372 and the regulations in 34 CFR part 79.

Applicable Program Regulations: 34 CFR part 350.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133B, Rehabilitation Research and Training Center)

Program Authority: § 29 U.S.C. 762(g) and 764(b)(2).

Dated: July 24, 2002.
Robert H. Pasternack,
Assistant Secretary for Special Education and Rehabilitative Services.

Appendix

Analysis of Comments and Changes

Comment: One commenter addressed the need for distance training courses in rural areas for people with disabilities.

Discussion: An applicant could address the need for distance training courses in rural areas for people with disabilities. However, NIDRR has no basis to determine that all applicants should be required to focus on this issue. The peer review process will evaluate the merits of the proposal.

Change: None.

Comment: One commenter stated that it was unclear if the proposed RRTC will be a two-year or a five-year project.

Discussion: The proposed RRTC is a five-year project. The reference to fiscal years 2002-2004 reflects the period of time the priority as written is valid.

Change: None.

Comment: One commenter asked for clarification of the sub-bullets under employment, health, and transportation. The commenter questioned if the items were examples of types of research projects in which NIDRR is interested or mandatory projects to be addressed.

Discussion: As stated in the NPP, NIDRR designates a priority as absolute, competitive preference, or invitational. This priority is absolute. Therefore, the applicant must propose to address each of the specific activities included in the priority.

Change: None.

Comment: One commenter inquired as to whether the emphasis on the term “policy” is meant to be a narrow prescription to conduct research on policies only or if it can be interpreted broadly as the continuum from policy formation, through development of strategies to implement policies, and finally the evaluation of the impact of policy.

Discussion: Applicants have the discretion to propose the specific activities that the RRTC will undertake in order to fulfill the purposes of the RRTC as set forth in the priority. Providing this degree of discretion to applicants is an acknowledgement of the various approaches that applicants could take. The peer review process will determine the merits of the suggested activities.

Change: None.

Comment: The priority includes an emphasis on healthcare providers. Given the relative shortage of healthcare providers in many rural and remote areas, exchanging the term “service provider” for “healthcare provider” would encourage a broader array of potential projects that have the potential of impacting rural residents who live in healthcare shortage areas.

Discussion: An applicant may propose to include the term service providers in conjunction with the term healthcare providers. The peer review process will determine the merits of the suggested activities.

Change: None.

Comment: Two commenters expressed their concerns that independent living (IL) was not included in this priority.

Discussion: An applicant may propose to include service providers, including IL, in the strategies that are developed to address issues. The peer review process will evaluate the merits of the proposal.

Change: None.

Comment: One commenter suggested that the research and development activities include rural housing.

Discussion: An applicant could address rural housing. However, NIDRR has no basis to determine that all applicants should be required to focus on this issue. The peer review process will evaluate the merits of the proposal.

Change: None.

Comment: One commenter inquired as to whether NIDRR intended to expand the responsibilities of the current RRTC or to propose funding for a new RRTC under this proposed priority.

Discussion: NIDRR proposes to fund an applicant, selected through the peer review process, to carry out the research agenda as set forth in this priority. The current RRTC's responsibilities will not be expanded by the priority.

Change: None.

Comment: One commenter inquired as to the definition of the term “healthcare providers” and asked if this can be addressed through a traditional medical care model, a social health care model, or a combination of both.

Discussion: Any professional person concerned with the maintenance or restoration of the health of the body or mind could be considered a healthcare provider. The applicant has the discretion to address the scope of this term. The peer review process will evaluate the merits of the proposal.

Change: None.

Comment: One commenter wanted to know if NIDRR had given any consideration to transportation issues affecting individuals with disabilities living in remote areas where there are no roads and where communities are only accessible by air.

Discussion: Applicants can address transportation needs of individuals with disabilities living in remote areas in the Rural Community Transportation priority area. The peer review process will evaluate the merits of the proposal.

Change: None.

[FR Doc. 02-19119 Filed 7-26-02; 8:45 am]

BILLING CODE 4000-01-P